DEPARTMENT OF JUSTICE

Antitrust Division

Notice Pursuant to the National Cooperative Research and Production Act Of 1993—National Center for Manufacturing Sciences, Inc.

Notice is hereby given that, on October 6, 2020, pursuant to Section 6(a) of the National Cooperative Research and Production Act of 1993, 15 U.S.C. 4301 et seq. (“the Act”), National Center for Manufacturing Sciences, Inc. (“NCMS”) has filed written notifications simultaneously with the Attorney General and the Federal Trade Commission disclosing changes in its membership. The notifications were filed for the purpose of extending the Act's provisions limiting the recovery of antitrust plaintiffs to actual damages under specified circumstances. Specifically, 3D Systems, Inc., Rockhill, SC; Advanced Analyzer Labs, Inc., Ellicott City, MD; America Makes, Blairsville, PA; American Lightweight Materials Mfg. Innovation Institute (LIFT), Detroit, MI; Analatom Inc., Santa Clara, CA; Aptima Inc., Woburn, MA; Applied Materials Inc., Santa Clara, CA; Armatec Survivability Corp., London, Ontario, Canada; ASM International, Novelty, OH; BEARS LLC, Royal Oak, MI; Cecil College, North East, MD; Curtiss-Wright, Davidson, NC; Deloitte Consulting LLP, Vienna, VA; DeLUX Engineering LLC, Newark, DE; Desktop Metals, Inc., Burlington, MA; Elbit Systems of America LLC, Merrimack, NH; Edison Welding Institute, Columbus, OH; ExOne, Irwin, PA; GasTOPS Inc., Huntsville, AL; General Motors LLC, Warren, MI; Guidehouse LLP, McLean, VA; Harford Community College, BelAir, MD; Hexagon Manufacturing Intelligence, North Kingstown, RI; Identify3D, San Francisco, CA; IR Technologies, Bethesda, MD; J&J Machining LLC, Anaheim, CA; John Hopkins University, Baltimore, MD; Kraetonics LLC, Pensacola, FL; Maglogix, LLC, Denver, CO; MELD Manufacturing Corporation, Christiansburg, VA; Merit Network, Inc., Ann Arbor, MI; Metalbuilt LLC, New Baltimore, MI; Microsoft Corporation, Redmond, WA; Mide Technology Corporation, Medford, MA; Naval Systems Inc., Ironsides, MD; Navitas, Woodridge, IL; Northrop Grumman Corporation, Falls Church, VA; North Dakota State University, Fargo, ND; Open Additive LLC, Beavercreek, OH; Optomec Inc., Albuquerque, NM; Ormond LLC, Auburn, WA; Perisense, Ann Arbor, MI; Phillips Corporation, Hanover, MD; Plassein Technologies Ltd., Las Vegas, NV; PTC, Needham Heights, MA; Robotic Research LLC, Gaithersburg, MD; Sagaris Group Inc., Sterling Heights, MI; Sciperio, Inc., Orlando, FL; Senvol, New York, NY; SHERPA Inc., Punta Gorda, FL; Siemens Government Technologies, Plano, TX; Strategic Resilience Group, LLC, Dumfries, VA; SurClean, Inc., Wixom, MI; Systecon North America, Washington, DC; T.E.A.M., Woonsocket, RI; Thermal Wave Imaging, Inc., Ferndale, MI; Toyon Research Corporation, Goleta, CA; University of Arizona, Tucson, AZ; University of Maryland, College Park—A. James Clark School of Engineering, College Park, MD; University of Northern Iowa Metal Casting Center, Dysart, IA; Vibrant Corporation, Albuquerque, NM; Wet Technologies Inc., Holbrook NY; Wichitech Industries, Inc., Randallstown, MD; and Zoller Inc., Ann Arbor, MI have been added as a party to this venture.

Also, Accio Energy, Inc., Ann Arbor, MI; ACE Clearwater Enterprises, Torrance, CA; Adapx, Inc., Seattle, WA; Advanced Tooling Corporation, Scottsville, VA; Altair Engineering, Inc., Troy, MI; American Foundry Society, Inc., Schaumburg, IL; ANSYS, Inc., Canonsburg, PA; Applied Technology Integration (ATI), Maumee, OH; Aspire Solutions, Inc., Eau Claire, WI; Barfield, Inc., Miami, FL; Baxter Healthcare Corporation, Deerfield, IL; BDM Associates, Norcross, GA; Black & Rossi, LLC, The Woodlands, TX; Caelynx, Inc., Ann Arbor, MI; CIARA Technologies, Montreal, QC, Canada; Claxton Logistics, Stafford, VA; Clemson University, Clemson, SC; The Columbia Group Inc., Alexandria, VA; Consumers Energy Company, Jackson, MI; Dassault Systemes, Dearborn, MI; Decision Incite Inc., Great Falls, VA; Deformation Control Technology, Inc., Cleveland, OH; EADS North America Test and Services, Irvine, CA; Eagle Systems, Inc., Waco, TX; Equipois, LLC, Manchester, NH; Faraday Technology, Inc., Sunnyvale, CA; FIATECH, New York, NY; FIVES Machining Systems Inc., Hebron, KY; Flight Support, Inc., North Haven, CA; Focus:HOPE, Detroit, MI; Ford Motor Company, Dearborn, MI; General Dynamics—OTS, Troy, MI; General Lasertronics Corporation, San Jose, CA; General Pattern Co. Inc., Blaine, MN; Great Lakes Composites Consortium, Inc., Dafter, MI; I.D. Systems, Inc., Woodcliffe Lake, NJ; Intel Corporation, Santa Clara, CA; Kitsap Economic Development Alliance, Silverdale, WA; L&L Products, Inc., Bruce Township, MI; Macro USA Corporation, New York, NY; MagneGas Corporation, Clearwater, FL; Messier-Dowty, Inc., Everett, WA; MET-L-FLO, Inc., Sugar Grove, IL; MichBio, Ann Arbor, MI; Michigan Manufacturing Technology Institute (MMTC), Troy, MI; Michigan Technological University, Houghton, MI; National Center for Defense Manufacturing and Machining (NCDMM), Blairsville, PA; Nimbis Services, Inc., Oro Valley, AZ; Northern Illinois University, DeKalb, IL; The Ohio State University, Columbus, OH; OMAX Corporation, Kent, WA; Original Equipment Suppliers Association (OESA), Southfield, MI; Perficient, Inc., Livonia, MI; Pratt & Whitney, East Hartford, CT; The Procter & Gamble Company, Cincinnati, OH; Profile Composites Inc., Sidney, BC, Canada; PYA Analytics, Knoxville, TN; R Systems NA, Inc., Champaign, IL; RGS Associates, Inc., Lancaster, MI; Rockwell Automation, Inc., Troy, MI; Russells Technical Products, Holland, MI; Saratoga Data Systems, Saratoga Springs, NY; Services and Solutions Group, LLC, Falls Church, VA; Sikorsky Aircraft, Stratford, CT; SimaFore, Inc., Ann Arbor, MI; StandardAero Redesign Services, Inc., Scottsdale, AZ; Stratasys Inc., Farmington Hills, MI; Survivability Solutions LLC, Lacey WA; Sustainable Water Works, Detroit, MI; Tactical Edge, LLC, Clarksville, TN; Tata Technologies, Novi, MI; TechSolve, Inc., Cincinnati, OH; Topline Technology Solutions, LLC, Bedford, IN; Tracen Technologies, Inc., Manassas, VA; Troika Solutions, LLC, Reston, VA; United Global Group, Fredericksburg, VA; University of Alabama, Tuscaloosa, AL; University of Dayton Research Institute (UDRI), Dayton, OH; University of Michigan, Ann Arbor, MI; Vectron International, Hudson, NH; Whitney, Bradley & Brown, Inc., Dumfries, VA; WinTec Arrowmaker, Fort Washington, MD; and Ziota Technology, Inc., Saint-Hubert, QC, Canada have withdrawn as a party to this venture.

No other changes have been made in either the membership or planned activity of the group research project. Membership in this group research project remains open, and NCMS intends to file additional written notifications disclosing all changes in membership.

On February 20, 1987, NCMS filed its original notification pursuant to Section 6(a) of the Act. The Department of Justice published a notice in the Federal Register pursuant to Section 6(b) of the Act on March 17, 1987 (52 FR 8375).

The last notification was filed with the Department on June 02, 2016. A notice was published in the Federal Register pursuant to Section 6(b) of the Act on July 6, 2016 (81 FR 44047).

Suzanne Morris,
Chief, Premerger and Division Statistics, Antitrust Division.

[FR Doc. 2020-24072 Filed 10-29-20; 8:45 am]

BILLING CODE 4410-11-P